ELECTION ASSISTANCE COMMISSION

Election Administration and Voting Survey Data Policy

AGENCY: U.S. Election Assistance Commission (EAC).

ACTION: Notice and request for public comment on Proposed Election Administration and Voting Survey Data Policy.

SUMMARY: The U.S. Election Assistance Commission (EAC) seeks public comment on the Proposed Election Administration and Voting Survey Data policy. The policy provides additional direction to election officials responsible for completing EAC's Election Administration and Voting Survey information about the processes and procedures that will guide their submission, review, and correction of the survey data. The EAC issues the survey to meet its obligations under the Help America Vote Act to serve as national clearinghouse and resource for the compilation of information with respect to the administration of Federal elections; to fulfill its data collection requirements under the Uniformed and Overseas Citizens Absentee Voting Act (UOCAVA); and meet its National Voter Registration Act (NVRA) mandate to collect information from states concerning the impact of that statute on the administration of Federal Elections.

DATES: Written comments must be submitted on or before 4 p.m. EDT on November 16, 2009.

Comments: Public comments are invited on: (a) Whether the policy is necessary for the proper performance of the functions of the agency, including whether the information shall have practical utility; (b) the information contained in the data policy.

Comments on the proposed policy should be submitted electronically to HAVAinfo@eac.gov. Written comments on the proposed policy can also be sent to the U.S. Election Assistance Commission, 1225 New York Avenue, NW., Suite 1100, Washington, DC 20005, ATTN: Election Administration and Voting Survey Data Policy.

Obtaining a Copy of the Policy: To obtain a free copy of the policy: (1) Access the EAC Web site at http://www.eac.gov; (2) write to the EAC (including your address and phone number) at U.S. Election Assistance Commission, 1225 New York Avenue, NW., Suite 1100, Washington, DC 20005, ATTN: Election Administration and Voting Survey Data Policy.

FOR FURTHER INFORMATION CONTACT: Ms. Karen Lynn-Dyson or Ms. Shelly Anderson at (202) 566-3100.

Thomas R. Wilkey,
Executive Director, U.S. Election Assistance Commission.

[FR Doc. E9-24863 Filed 10-15-09; 8:45 am]

BILLING CODE 6820-KF-P